DEPARTMENT OF ENERGY

Office of Fossil Energy; Methane Hydrate Advisory Committee

AGENCY: Department of Energy

ACTION: Notice of open meeting.

SUMMARY: This notice announces a meeting of the Methane Hydrate Advisory Committee. Federal Advisory Committee Act (Pub. L. 92-463, 86 Stat. 770) requires notice of these meetings be announced in the Federal Register.

DATES: Thursday, May 17, 2001, 8:30 AM to 5:00 PM and Friday, May 18, 2001, 8:30 to Noon.

ADDRESSes: Dome Catering and Conference Center, 539 Woods Hole Road, Woods Hole, Massachusetts 02543.

FOR FURTHER INFORMATION CONTACT: Edith Allison, U.S. Department of Energy, Office of Natural Gas and Petroleum Technology, Washington, DC 20585. Phone: 202/586-1023.

SUPPLEMENTARY INFORMATION: Purpose of the Committee: The purpose of the Methane Hydrate Advisory Committee is to provide advice on potential applications of methane hydrate to the Secretary of Energy; assist in developing recommendations and priorities for the Department of Energy methane hydrate research and development program; and, submit to Congress a report on the anticipated impact on global climate change from methane hydrate formation, methane hydrate degassing and consumption of natural gas produced from methane hydrates.

Tentative Agenda:

Thursday, May 17, 2001

• Call to order by Mr. Arthur Johnson and Mr. Robert S. Kripowicz, Co-Chairmen.

• Presentations on historic and current research by National Energy Technology Laboratory, Naval Research Laboratory and the National Lab Working Group on Hydrates.

• Presentations on research results in: Arctic hydrate characterization; Production feasibility; safety and seafloor stability for conventional petroleum operations in hdyrate areas; and Hydrates and global climate change.

• Roundtable discussion of Hydrates and Global Climate Change.

• Ten minutes will be allowed for questions and public comment after each presentation.

Friday, May 18, 2001

• Structured discussion of R&D Priorities and funding levels in: Resource Characterization; Production; Transport and storage of methane from hydrates; Education and training; Mitigating drilling risks; and Exploratory drilling.

• Structured discussion of Interagency and International Cooperation.

• Planning for May 2002 report.

• Public comment—each person will be allowed up to 5 minutes.

• Adjournment, about Noon.

Public Participation: The meeting is open to the public. The Chairmen of the Committee will conduct the meeting to facilitate the orderly conduct of business. If you would like to file a written statement with the Committee, you may do so either before or after the meeting. If you would like to make oral statements regarding any of the items on the agenda, you should contact Edith Allison at the address or telephone number listed above. You must make your request for an oral statement at least five business days prior to the meeting, and reasonable provisions will be made to include the presentation on the agenda. Public comment will follow the 10 minute rule.

Minutes: The minutes of this meeting will be available for public review and copying within 60 days at the Freedom of Information Public Reading Room, 1E-190, Forrestal Building, 1000 Independence Avenue, SW., Washington, DC, between 9:00 a.m. and 4:00 p.m., Monday through Friday, except Federal holidays. Transcripts will be available by request.

Issued in Washington, DC on April 11, 2001
Rachel M. Samuel,
Deputy Advisory Committee, Management Officer.

[FR Doc. 01-9463 Filed 4-16-01; 8:45 am]

BILLING CODE 6450-01-P